NUCLEAR REGULATORY COMMISSION

10 CFR Parts 30 and 150

[NRC-2011-0146]

Proposed Generic Communications; Draft NRC Regulatory Issue Summary 2011-XX; NRC Regulation of Military Operational Radium-226; Reopening of Comment Period

AGENCY: Nuclear Regulatory Commission.

ACTION: Reopening of comment period.

SUMMARY: On July 8, 2011, the U.S. Nuclear Regulatory Commission (NRC) published a draft Regulatory Issue Summary (RIS) pertaining to NRC regulation of military operational Radium-226 for a 60-day public comment period that ended on September 6, 2011. The NRC has decided to reopen the comment period for an additional 75 days.

DATES: The comment period for the publication July 8, 2011 at 76 FR 40282, has been reopened and now closes on November 29, 2011. Comments received after this date will be considered if it is practical to do so, but the NRC is able to assure consideration only for comments received on or before this date.

ADDRESSES: Please include Docket ID NRC-2011-0146 in the subject line of your comments. For additional instructions on submitting comments and instructions on accessing documents related to this action, see “Submitting comments and Accessing Information:” in the SUPPLEMENTARY INFORMATION section of this document. You may submit comments by any one of the following methods:

• Federal Rulemaking Web Site: Go to http://www.regulations.gov and search for documents filed under Docket ID NRC-2011-0146. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

FOR FURTHER INFORMATION CONTACT: Robert L. Johnson, Office of Federal and State Materials and Environmental Management Programs, Division of Waste Management and Environmental Protection, U.S. Nuclear Regulatory Commission, Washington, DC 20555-0001, telephone: 301-415-7282, e-mail: Robert.Johnson2@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publically disclosed.

The NRC requests that any party soliciting or aggregating comments received from other persons for submission to the NRC inform those persons that the NRC will not edit their comments to remove any identifying or contact information, and therefore, they should not include any information in their comments that they do not want publically disclosed.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. The draft RIS is available electronically under ADAMS Accession Number ML111510163.

• Federal Rulemaking Web Site: Public comments and supporting materials related to this notice can be found at http://www.regulations.gov by searching on Docket ID NRC-2011-0146.

Discussion

On October 1, 2007 (72 FR 55864), the NRC published a final rule that amended its regulations to include jurisdiction over discrete sources of radium-226, accelerator-produced radioactive materials, and discrete sources of naturally occurring radioactive material, as required by the Energy Policy Act of 2005, which was signed into law on August 8, 2005 (NARM Rule). In order to clarify those discrete sources of radium-226 under military control that are subject to NRC regulation, as interpreted in the statement of considerations to the NARM Rule, on July 8, 2011 (76 FR 40282), the NRC published for public comment the proposed draft RIS 2011-XX; NRC Regulation of Military Operational Radium-226. On August 29, 2011, the NRC received a request from the U.S. Department of Defense (DoD) for a meeting with the NRC staff and an extension of the comment period. In response to the request for DoD, the NRC has decided to reopen the comment period for an additional 75 days. The NRC staff will schedule the public meeting for a date that has yet to be determined. Notice of this public meeting will be provided through the NRC's Web site.

Dated at Rockville, Maryland, this 8th day of September 2011.
For the Nuclear Regulatory Commission.
Keith I. McConnell,
Deputy Director, Decommissioning and Uranium Recover Licensing Directorate, Division of Waste Management and Environmental Protection, Office of Federal and State Materials and Environmental Management Programs.

[FR Doc. 2011-23636 Filed 9-14-11; 8:45 am]

BILLING CODE 7590-01-P